DEPARTMENT OF TRANSPORTATION

Federal Aviation Administration

14 CFR Part 39

[Docket No. FAA-2005-20852; Directorate Identifier 2004-NM-240-AD]

RIN 2120-AA64

Airworthiness Directives; Bombardier Model DHC-8-102, -103, -106, -201, -202, -301, -311, and -315 Airplanes

AGENCY: Federal Aviation Administration (FAA), Department of Transportation (DOT).

ACTION: Notice of proposed rulemaking (NPRM).

SUMMARY: The FAA proposes to adopt a new airworthiness directive (AD) for certain Bombardier Model DHC-8-102, -103, -106, -201, -202, -301, -311, and -315 airplanes. This proposed AD would require revising the airworthiness limitations section of the Instructions for Continued Airworthiness by incorporating new and revised structural inspection procedures and new and revised inspection intervals for the longitudinal skin joints in the fuselage pressure shell. This proposed AD would also require phase-in inspections and repair of any crack found during any phase-in inspection. This proposed AD is prompted by a report indicating that visual inspections were not adequate for detecting fatigue cracking in portions of the longitudinal skin joints in the fuselage pressure shell. We are proposing this AD to detect and correct fatigue cracking of the longitudinal skin joints in the fuselage pressure shell, which could affect the structural integrity of the airplane, and result in loss of cabin pressurization during flight.

DATES: We must receive comments on this proposed AD by May 6, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Bombardier, Inc., Bombardier Regional Aircraft Division, 123 Garratt Boulevard, Downsview, Ontario M3K 1Y5, Canada.

You can examine the contents of this AD docket on the Internet at http://dms.dot.gov, or in person at the Docket Management Facility, U.S. Department of Transportation, 400 Seventh Street, SW., room PL-401, on the plaza level of the Nassif Building, Washington, DC. This docket number is FAA-2005-20852; the directorate identifier for this docket is 2004-NM-240-AD.

FOR FURTHER INFORMATION CONTACT: David Lawson, Aerospace Engineer, Airframe and Propulsion Branch, ANE-171, FAA, New York Aircraft Certification Office, 1600 Stewart Avenue, suite 410, Westbury, New York 11590; telephone (516) 228-7327; fax (516) 794-5531.

SUPPLEMENTARY INFORMATION:

Comments Invited

We invite you to submit any relevant written data, views, or arguments regarding this proposed AD. Send your comments to an address listed under ADDRESSES. Include “Docket No. FAA-2005-20852; Directorate Identifier 2004-NM-240-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

Transport Canada Civil Aviation (TCCA), which is the airworthiness authority for Canada, notified us that an unsafe condition may exist on certain Bombardier Model DHC-8-102, -103, -106, -201, -202, -301, -311, and -315 airplanes. TCCA advises that the existing visual inspections in the airworthiness limitations section of the Instructions for Continued Airworthiness were not adequate for detecting fatigue cracking in portions of the longitudinal skin joints in the fuselage pressure shell. Those areas were hidden by other structures. Fatigue cracking of the fuselage longitudinal skin joints, if not detected and corrected, could affect the structural integrity of the airplane, and result in loss of cabin pressurization during flight.

Explanation of Canadian Airworthiness Directive and Relevant Service Information

TCCA has issued Canadian airworthiness directive CF-2004-16, dated September 7, 2004, to ensure the continued airworthiness of these airplanes in Canada. The Canadian airworthiness directive requires revising the Transport Canada-approved maintenance program by incorporating new and revised structural inspection procedures and new and revised inspections intervals for the longitudinal skin joints in the fuselage pressure shell, as introduced in the temporary revisions (TR) to the applicable Bombardier DHC-8 Maintenance Program Manual, listed in the following tables. The TRs to the maintenance task cards (MTC) describe new and revised structural inspections. The TRs to the airworthiness limitations (AWL) describe new structural inspection intervals.

Table—Temporary Revisions to MTCs
DHC-8 model | Maintenance program manual/program support manual (PSM) | Temporary revision number | Task no. | Date
-102, -103, -106 airplanes | PSM 1-8-7TC | MTC-45 | 5310/29E | November 28, 2003.
|  | MTC-46 | 5310/30A | November 28, 2003.
-201, -202 airplanes | PSM 1-82-7TC | MTC 2-45 | 5310/29E | November 28, 2003.
|  | MTC 2-46 | 5310/30A | November 28, 2003.
-301, -311, -315 airplanes | PSM 1-83-7TC | MTC 3-47 | 5310/29E | November 28, 2003.
|  | MTC 3-48 | 5310/30A | November 28, 2003.

Table—Temporary Revisions to AWL
DHC-8 model | Maintenance program manual | Temporary revision no. | Date
-102, -103, -106 airplanes | PSM 1-8-7TC | AWL-92 | June 28, 2004.
-102, -103, -106 airplanes | PSM 1-8-7TC | AWL-93 | June 28, 2004.
-201, -202 airplanes | PSM 1-82-7TC | AWL 2-31 | June 28, 2004.
-201, -202 airplanes | PSM 1-82-7TC | AWL 2-32 | June 28, 2004.
-301, -311, -315 airplanes | PSM 1-83-7TC | AWL 3-98 | June 28, 2004.
-301, -311, -315 airplanes | PSM 1-83-7TC | AWL 3-99 | June 28, 2004.

Table—Recommended Compliance Times in Temporary Revisions to AWL
de Havilland, Inc., TR | DHC-8 model airplanes | Action | Threshold/initial inspection (flight cycles) | Initial repetitive inspection (flight cycles) | Phase-in threshold/new inspections (flight cycles) | Repetitive intervals for new inspections (flight cycles)
AWL-92 | -102 and -103 | Detailed inspection | 40,000 | Not applicable | 40,000 | 37,000
AWL-92 | -106 | Detailed inspection | 40,000 | Not applicable | 40,000 | 36,240
AWL-93 | -102 and -103 | Above floor detailed inspection | 40,000 | 40,000 | 80,000 | 16,475
|  | Below floor detailed inspection | 40,000 | 40,000 | 80,000 | 10,980
AWL-93 | -106 | Above floor detailed inspection | 40,000 | 40,000 | 80,000 | 9,350
|  | Below floor detailed inspection | 40,000 | 20,346 | 60,346 | 6,230
AWL 2-31 | -201 and -202 | Detailed inspection | 40,000 | Not applicable | 40,000 | 36,240
AWL 2-32 | -201 and -202 | Above floor detailed inspection | 40,000 | 40,000 | 80,000 | 9,350
|  | Below floor detailed inspection | 40,000 | 20,346 | 60,346 | 6,230
AWL 3-98 | -301, -311, and -315 | Detailed inspection | 40,000 | Not applicable | 40,000 | 36,240
AWL 3-99 | -301 | Above floor detailed inspection | 40,000 | Not applicable | 40,000 | 40,000
|  | Below floor detailed inspection | 40,000 | Not applicable | 40,000 | 30,920
AWL 3-99 | -311 and -315 | Above floor detailed inspection | 40,000 | Not applicable | 40,000 | 40,000
|  | Below floor detailed inspection | 40,000 | Not applicable | 40,000 | 33,933

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are proposing this AD, which would require revising the airworthiness limitations section of the Instructions for Continued Airworthiness by incorporating new and revised structural inspection procedures and new and revised inspection intervals for the longitudinal skin joints in the fuselage pressure shell, except as discussed under “Differences Between the Proposed AD, Canadian Airworthiness Directive, and Service Information” This proposed AD would also require phase-in inspections and repair of any crack found during any phase-in inspection.

Differences Among the Proposed AD, Canadian Airworthiness Directive, and Service Information

The MTCs specify that you may contact the manufacturer for instructions on how to repair cracks in the longitudinal skin joints in the fuselage pressure shell, but this proposed AD would require you to repair those cracks using a method that we or TCCA (or its delegated agent) approve. In light of the type of repair that would be required to address the unsafe condition, and consistent with existing bilateral airworthiness agreements, we have determined that, for this proposed AD, a repair we or TCCA approve would be acceptable for compliance with this proposed AD.

Although the Canadian airworthiness directive includes Bombardier Model DHC-8-314 airplanes, the applicability of this proposed AD does not include that airplane model. That airplane model is not included on the most recent type certificate data sheet for the affected models.

TCCA is aware of these differences.

Clarification of Inspection Terminology

In this proposed AD, the “detailed visual inspection” specified in the Bombardier temporary revision is referred to as a “detailed inspection.” We have included the definition for a detailed inspection in Note 1 of this proposed AD.

Costs of Compliance

The following table provides the estimated costs for U.S. operators to comply with this proposed AD.

Estimated Costs
Action | Work hours | Average labor rate per hour | Parts | Cost per airplane | Number of U.S.-registered airplanes | Fleet cost
AWL revision | 1 | $65 | N/A | $65 | 177 | $11,505
Phase-in inspections | 25 | 65 | N/A | 1,625 | 177 | 287,625

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc. (Formerly de Havilland, Inc.): Docket No. FAA-2005-20852; Directorate Identifier 2004-NM-240-AD.

Comments Due Date

(a) The Federal Aviation Administration must receive comments on this AD action by May 6, 2005.

Affected ADs

(b) None.

Applicability

(c) This AD applies to Bombardier Model DHC-8-102, -103, -106, -201, -202, -301, -311, and -315 airplanes; certificated in any category; serial number 003 and subsequent.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (l) of this AD. The request should include a description of changes to the required inspections that will ensure the continued damage tolerance of the affected structure. The FAA has provided guidance for this determination in Advisory Circular (AC) 25-1529.

Unsafe Condition

(d) This AD was prompted by a report indicating that visual inspections were not adequate for detecting fatigue cracking in portions of the longitudinal skin joints in the fuselage pressure shell. We are issuing this AD to detect and correct fatigue cracking of the longitudinal skin joints in the fuselage pressure shell, which could affect the structural integrity of the airplane, and result in loss of cabin pressurization during flight.

Compliance

(e) You are responsible for having the actions required by this AD performed within the compliance times specified, unless the actions have already been done.

Revision of Airworthiness Limitation (AWL) Section

(f) Within 30 days after the effective date of this AD: Revise the AWL section of the Instructions for Continued Airworthiness by incorporating the contents of the applicable de Havilland, Inc., temporary revision (TR) listed in Table 1 of this AD into the AWL section of the applicable Bombardier DHC-8 Maintenance Program Support Manual.

Thereafter, except as provided by paragraphs (g) and (l) of this AD, no alternative structural inspection intervals may be approved for the longitudinal skin joints in the fuselage pressure shell.

Table 1.—Temporary Revisions to AWL
DHC-8 model | de Havilland, Inc., TR | Dated | For maintenance program support manual (PSM)
-102, -103, and -106 airplanes | AWL-92 | June 28, 2004 | PSM 1-8-7TC
| AWL-93 | June 28, 2004 |
-201 and -202 airplanes | AWL 2-31 | June 28, 2004 | PSM 1-82-7TC
| AWL 2-32 | June 28, 2004
-301, -311, and -315 airplanes | AWL 3-98 | June 28, 2004 | PSM 1-83-7TC
| AWL 3-99 | June 28, 2004 |

Incorporation of TRs Into General Revisions

(g) When the information in the applicable de Havilland, Inc., TR identified in Table 1 of this AD has been included in the general revisions of the applicable PSM identified in Table 1 of this AD, the general revisions may be inserted in the PSM, and the applicable TR may be removed from the AWL section of the Instruction for Continued Airworthiness.

Phase-In Inspections

(h) At the times specified in paragraph (i) of this AD, perform the detailed and eddy current inspections, as applicable, of the longitudinal skin joints in the fuselage pressure shell specified in the TR for the applicable Dash 8 (de Havilland, Inc.,) maintenance task card (MTC) listed in Table 2 of this AD.

Table 2.—Temporary Revisions to MTCs
DHC-8 model | de Havilland, Inc., TR | Dated | Task No. | For maintenance program support manual (PSM)
-102, -103, and -106 airplanes | MTC-45 | November 28, 2003 | 5310/29E | PSM 1-8-7TC
| MTC-46 | November 28, 2003 | 5310/30A |
-201 and -202 airplanes | MTC 2-45 | November 28, 2003 | 5310/29E | PSM 1-82-7TC
| MTC 2-46 | November 28, 2003 | 5310/30A |
-301, -311, and -315 airplanes | MTC 3-47 | November 28, 2003 | 5310/29E | PSM 1-83-7TC
| MTC 3-48 | November 28, 2003 | 5310/30A |

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Compliance Times

(i) Perform the inspections required by paragraph (h) of this AD at the applicable time specified in paragraph (i)(1), (i)(2), or (i)(3) of this AD.

(1) For all airplanes with 40,000 total flight cycles or less as of the effective date of this AD: At the times specified in the applicable temporary revision to the Airworthiness Limitations (AWL) listed in Table 1 of this AD.

(2) For airplanes with more than 40,000 total flight cycles but less than 57,500 total flight cycles as of the effective date of this AD:

(i) For Model -102, -103, -301, -311, and -315 airplanes: Within 5,000 flight hours after the effective date of this AD or prior to the accumulation of 60,000 total flight cycles, whichever is first.

(ii) For Model -106, -201, and -202 airplanes: Within 5,000 flight hours after the effective date of this AD or prior to the accumulation of 60,346 total flight cycles, whichever is first.

(3) For all airplanes with 57,500 total flight cycles or more as of the effective date of this AD: Within 12 months or 2,500 flight cycles after the effective date of this AD, whichever is first.

(j) Repeat the inspections required by paragraph (h) of this AD thereafter at the intervals specified in the applicable temporary revision to the AWL required by paragraph (f) of this AD.

Repair

(k) If a crack is found in a longitudinal skin joint during any phase-in inspection required by paragraph (h) of this AD, and the MTC specifies contacting Bombardier for repair information: Before further flight, repair the affected longitudinal skin joint in accordance with a method approved by either the Manager, New York ACO; or Transport Canada Civil Aviation (or its delegated agent).

AMOCs

(l) The Manager, New York ACO, has the authority to approve AMOCs for this AD, if requested in accordance with the procedures found in 14 CFR 39.19.

Related Information

(m) Canadian airworthiness directive CF-2004-16, dated September 7, 2004, also addresses the subject of this AD.

Issued in Renton, Washington, on March 29, 2005.
Kalene C. Yanamura,
Acting Manager, Transport Airplane Directorate, Aircraft Certification Service.

[FR Doc. 05-6770 Filed 4-5-05; 8:45 am]

BILLING CODE 4910-13-P